DEPARTMENT OF COMMERCE

National Oceanic and Atmospheric Administration

50 CFR Part 648

[Docket No. 120109034-2171-01]

RIN 0648-XC823

Fisheries of the Northeastern United States; Northeast Multispecies Fishery; Trip Limit Adjustments for the Common Pool Fishery

AGENCY: National Marine Fisheries Service (NMFS), National Oceanic and Atmospheric Administration (NOAA), Commerce.

ACTION: Temporary rule; inseason adjustment.

SUMMARY: This action decreases the possession limit for Southern New England/Mid-Atlantic winter flounder and Gulf of Maine haddock for Northeast multispecies common pool vessels for the remainder of the 2013 fishing year. NMFS is taking this action because the common pool has caught 73 percent of its Southern New England/Mid-Atlantic winter flounder quota, and 96 percent of its Gulf of Maine haddock quota. This action is intended to prevent the overharvest of the common pool's FY 2013 allocation of Southern New England/Mid-Atlantic winter flounder and Gulf of Maine haddock.

DATES: Effective August 28, 2013, through April 30, 2014.

FOR FURTHER INFORMATION CONTACT: Brett Alger, Fishery Management Specialist, 978-675-2153, Fax 978-281-9135.

SUPPLEMENTARY INFORMATION: Regulations governing the Northeast (NE) multispecies fishery are found at 50 CFR part 648, subpart F. The regulations authorize the Regional Administrator (RA) to adjust the possession limits for common pool vessels in order to prevent the overharvest or underharvest of the common pool quotas. Based on data reported through August 21, 2013, the common pool fishery has caught approximately 73 percent of its Southern New England/Mid-Atlantic (SNE/MA) winter flounder allocation of 136 mt, and 96 percent of its Gulf of Maine (GOM) haddock allocation of 2 mt. Despite a trip limit reduction for SNE/MA winter flounder, and a closure to the GOM Haddock Trimester Total Allowable Catch Area earlier this fishing year on July 16, 2013 (77 FR 42478), recent analysis shows that the common pool would likely exceed its allocation for both stocks if further action is not taken. To address this potential overharvest, the trip limit for SNE/MA winter flounder is reduced to 300 lb (136.1 kg) per trip, and the GOM haddock trip limit is reduced to zero for all common pool vessels. The trip limit adjustments are effective August 28, 2013, through April 30, 2014.

Catch will continue to be monitored through vessel trip reports, dealer-reported landings, vessel monitoring system catch reports, and other available information, and if necessary, additional adjustments to common pool management measures may be made.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest for the reasons stated below. Pursuant to 5 U.S.C. 553(d)(3), the AA also finds good cause to waive the 30-day delayed effectiveness period for the same reasons.

The regulations at § 648.86(o) authorize the RA to adjust the NE multispecies trip limits for common pool vessels in order to prevent the overharvest or underharvest of the common pool quotas. The catch data used as the basis for this action only recently became available. The available analysis indicates that if the SNE/MA winter flounder and GOM haddock trip limits are not reduced quickly, the common pool fishery will likely exceed its FY 2013 allocation for these stocks. Any overages of the common pool quota for these stocks would undermine conservation objectives and trigger the implementation of accountability measures that would have negative economic impacts on common pool vessels. This action reduces the probability of the common pool fishery exceeding its allocations for SNE/MA winter flounder and GOM haddock. As a result, the time necessary to provide for prior notice and comment, and a 30-day delay in effectiveness, would prevent NMFS from implementing the necessary trip limit adjustments in a timely manner, which could undermine conservation objectives of the NE Multispecies Fishery Management Plan, and cause negative economic impacts to the common pool fishery.

Authority: 16 U.S.C. 1801 et seq.

Dated: August 26, 2013.
Kelly Denit,
Acting Deputy Director, Office of Sustainable Fisheries, National Marine Fisheries Service.

[FR Doc. 2013-21381 Filed 8-28-13; 4:15 pm]

BILLING CODE 3510-22-P